DEPARTMENT OF ENERGY

Federal Energy Regulatory Commission

18 CFR Parts 4 and 5

[Docket No. RM02-16-000]

Hydroelectric Licensing Under the Federal Power Act; Correction

AGENCY: Federal Energy Regulatory Commission.

ACTION: Final rule; correction.

SUMMARY: The Federal Energy Regulatory Commission is correcting the final rule concerning the process for hydroelectric licensing under the Federal Power Act that was published on August 25, 2003.

EFFECTIVE DATE: October 24, 2003.

FOR FURTHER INFORMATION CONTACT: John Clements, 202-502-8070.

SUPPLEMENTARY INFORMATION: The final rule published on August 25, 2003, at 68 FR 51070 is corrected as follows:

PART 4—LICENSES, PERMITS, EXEMPTIONS, AND DETERMINATION OF PROJECT COSTS

§ 4.41 [Corrected]

1. On page 51120, in the first column, the text of § 4.41(h), is corrected as follows: In the eighth sentence, remove the phrase “or each” and add in its place the phrase “of each.”

PART 5—INTEGRATED LICENSE APPLICATION PROCESS

§ 5.1 [Corrected]

2. On page 51121, in the second column, in the text of § 5.1(b), remove the words “parte” and “part” and add in their place the word “chapter”.

§ 5.5 [Corrected]

3. On page 51123, in the third column, in the text of § 5.5(b), introductory sentence, remove the phrase “a letter” and add in its place the phrase “an original and eight copies of a letter”.

4. On page 51123, in the third column, in the text of § 5.5(c), remove the phrase “tribes, and” and add in its place the phrase “tribes, local governments, and”.

§ 5.6 [Corrected]

5. On page 51124, in the first column, in the text of § 5.6(a)(1), remove the phrase “Commission and” and add in its place the phrase “Commission and original and eight copies and”.

6. On page 51127, in the first column, in the text of § 5.6(d)(4), remove the phrase “paragraphs (d)(1) and (d)(2)” and add in its place the phrase “paragraph (d)(3)”.

§ 5.9 [Corrected]

7. On page 51128, in the second column, in the text of § 5.9(c), following the word “incur”, remove the word “and” and add in its place the phrase “in order to”.

§ 5.18 [Corrected]

8. On page 51131, in the third column, in the text of § 5.18(a)(5)(iii), remove the phrase “A, F, and G” and add in its place the phrase “A, B, C, D, F, and G”.

§ 5.19 [Corrected]

9. On page 51135, in the third column, in the text of § 5.19, remove § 5.19(d) and redesignate § 5.19(e) as § 5.19(d).

Magalie R. Salas,
Secretary.

[FR Doc. 03-30932 Filed 12-15-03; 8:45 am]

BILLING CODE 6717-01-P